DEPARTMENT OF STATE

[Public Notice: 9380]

Privacy Act; System of Records: Office of Foreign Missions Records, State-81

SUMMARY: Notice is hereby given that the Department of State proposes to create a system of records, Office of Foreign Missions Records, State-81, pursuant to the provisions of the Privacy Act of 1974, as amended (5 U.S.C. 552a) and Office of Management and Budget Circular No. A-130, Appendix I.

DATES: This system of records will be effective on January 26, 2016, unless we receive comments that will result in a contrary determination.

ADDRESSES: Any persons interested in commenting on the new system of records may do so by writing to the Director; Office of Information Programs and Services, A/GIS/IPS; Department of State, SA-2; 515 22nd Street NW.; Washington, DC 20522-8100.

FOR FURTHER INFORMATION CONTACT: John Hackett, Director; Office of Information Programs and Services, A/GIS/IPS; Department of State, SA-2; 515 22nd Street NW; Washington, DC 20522-8100, or at Privacy@state.gov.

SUPPLEMENTARY INFORMATION: The Department of State proposes that the new system will be named “Office of Foreign Missions Records.” The records in State-81 were previously published under STATE-36, Security Records. The records maintained in the Office of Foreign Missions Records are related to the implementation of the Foreign Missions Act, the operation of foreign missions, and the United States' extension of privileges, exemptions, immunities, benefits, and courtesies to foreign government officials, members/employees and officers of foreign missions and certain international organizations in the United States, their immediate family members, and domestic workers who are in the United States in nonimmigrant A-3 or G-5 visa status.

The Department's report was filed with the Office of Management and Budget. The new system description, “Office of Foreign Missions Records, State-81,” will read as set forth below.

Joyce A. Barr,
Assistant Secretary for Administration, U.S. Department of State.

STATE-81

SYSTEM NAME:

Office of Foreign Missions Records

SECURITY CLASSIFICATION:

Unclassified

SYSTEM LOCATION:

Office of Foreign Missions (OFM), Department of State, 2201 C Street NW., Washington, DC 20520; State Annex 33, OFM Regional Offices.

CATEGORIES OF INDIVIDUALS COVERED BY THE SYSTEM:

Categories of individuals covered include: (a) members and employees of foreign missions and international organizations in the United States; (b) their immediate family and other household members; (c) domestic workers who are in the United States in nonimmigrant A-3 or G-5 visa status; (d) officials/representatives of foreign governments; and (e) individuals accompanying senior foreign embassy officials on tours of the White House.

CATEGORIES OF RECORDS IN THE SYSTEM:

1. Administrative files related to the implementation of the Foreign Missions Act, provision of services and benefits. Records in the system may include biographic data, such as name, numeric identifier, gender, nationality, citizenship, visa data, date and place of birth, residential address, employer name and location, employee's function/title, employment start date, and employment termination date.

2. Records associated with the notification, accreditation, recognition, and termination of the appointment of members of foreign missions as well as employees and officers of international organizations in the United States;

3. Records may include documentation concerning:

a. Employment authorization for eligible dependents of foreign missions and international organizations in the United States;

b. the authorization of the exemption of taxes imposed on the purchases of goods and services by eligible members of foreign missions and international organizations in the United States;

c. the authorization of tax and duty-free importation privileges for eligible members of foreign missions and international organizations in the United States;

d. Real property owned or leased by certain members of foreign missions and international organizations in the United States and the extension of any applicable privileges and immunities to such properties;

e. Individuals or entities who sell or purchase real property from foreign missions and international organizations;

f. Motor vehicle titling, registration, and licensing services and documentation for eligible members of foreign missions and international organizations in the United States, including motor vehicle records/moving violation records for individuals and information concerning an individual's motor vehicle liability insurance coverage;

g. A foreign mission or international organization member's notification or request for approval of travel planned within the United States that is outside of an established geographic area;

h. The extension of expedited port clearance courtesies to senior foreign officials entering the United States;

i. The extension of airport security screening courtesies associated with the departure of senior foreign officials from airports in the United States;

j. Requests from foreign missions for White House Tours; and

k. Assignment and management of electronic accounts for individuals authorized to submit requests to the Department of State on behalf of foreign missions and international organizations via OFM's e-Government System.

4. Records related to submissions of Form I-508 “Waiver of Rights, Privileges, Exemptions, and Immunities” from individuals who are lawful permanent residents and are in an occupational status making them eligible for an “A,” “E,” or “G” visa to waive rights, privileges, exemptions and immunities associated with such occupational status;

5. Records concerning members of foreign missions and officers or employees of international organizations containing a finding or determination made by an appropriate authority of a state, a political subdivision of a state, or the United States that there is reasonable cause to believe that a member of a foreign mission or an officer or employee of an international organization has committed a criminal offense within the United States.

AUTHORITY FOR MAINTENANCE OF THE SYSTEM:

22 U.S.C. 4301 et seq. (Foreign Missions Act); 22 U.S.C. 288 et seq. (International Organizations Immunities Act); Vienna Convention on Diplomatic Relations; Vienna Convention on Consular Relations; 22 U.S.C. 254a et seq. (Diplomatic Relations Act).

PURPOSE:

The records maintained herein are related to the implementation of the Foreign Missions Act, the operation of foreign missions, and the United States' extension of privileges, exemptions, immunities, benefits, and courtesies to foreign government officials, members/employees and officers of foreign missions and certain international organizations in the United States, their immediate family members, and domestic workers who are in the United States in nonimmigrant A-3 or G-5 visa status.

ROUTINE USES OF RECORDS MAINTAINED IN THE SYSTEM, INCLUDING CATEGORIES OF USERS AND THE PURPOSES OF SUCH USES:

The principal users of this information outside the Department of State may include:

A. The Department of Homeland Security for uses within its statutory mission, including law enforcement, transportation and border security, administration of immigrant benefits, critical infrastructure protection, and fraud prevention;

B. The Department of Justice, including the Federal Bureau of Investigation, for purposes of law enforcement, criminal prosecution, representation of the U.S. government in civil litigation, fraud prevention, or border security;

C. The Department of the Treasury, for uses within its statutory mission, including the enforcement of U.S. tax laws, and economic sanctions;

D. The Department of Defense, for uses within its statutory mission;

E. The Department of Labor, for uses within its statutory mission including the administration and enforcement of U.S. labor laws;

F. The Office of the Director of National Intelligence and other U.S. intelligence community agencies, for uses within their statutory missions, including intelligence, counterintelligence, and other national security interests;

G. State, local, and tribal government officials for purposes associated with their extension of privileges, exemptions, immunities and benefits to foreign missions, international organizations, and their members/officers and employees, and for law enforcement purposes;

H. Corporations/entities identified by OFM as providing benefits and services to the foreign mission community, but only to the extent such information is relevant and necessary for the provision of such benefits and services;

I. State, local, Federal, or non-governmental agencies and entities as needed for purposes of emergency or disaster response; and

J. Foreign missions, foreign governments, and international organizations in connection with their administration of human resource matters, criminal investigations, or in order to ensure the proper provision of a privilege or benefit.

The Department of State periodically publishes in the Federal Register its standard routine uses that apply to all of its Privacy Act systems of records. These notices appear in the form of a Prefatory Statement. These standard routine uses apply to the Office of Foreign Missions Records, State-81.

DISCLOSURE TO CONSUMER REPORTING AGENCIES:

None.

POLICIES AND PRACTICES FOR STORING, RETRIEVING, ACCESSING, RETAINING, AND DISPOSING OF RECORDS IN THE SYSTEM:

STORAGE:

Electronic and physical media.

RETRIEVABILITY:

Records are retrieved through individual data fields including, but not limited to, biographic data (such as name, gender, nationality, citizenship, visa data, date and place of birth, residential address, employer name and location, employee's function/title, employment start date, and employment termination date) or other personal identifiers.

SAFEGUARDS:

All U.S. Government employees and contractors with authorized access have undergone a thorough background security investigation.

All users are given cyber security awareness training which covers the procedures for handling Sensitive but Unclassified information, including personally identifiable information (PII). Annual refresher training is mandatory. In addition, all Department of State employees who handle PII are required to take the Foreign Service Institute distance learning course instructing employees on privacy and security requirements, including the rules of behavior for handling PII and the potential consequences if it is handled improperly. Before being granted access to the Office of Foreign Missions Records, a user must first be granted access to the Department of State computer system.

Remote access to the Department of State network from non-Department owned systems is authorized only to unclassified systems and only through a Department approved access program. Remote access to the network is configured in accordance with the Office of Management and Budget Memorandum M-07-16 security requirements that include, but are not limited to, two-factor authentication and time out function.

Access to the Department of State and its annexes is controlled by security guards, and admission is limited to those individuals possessing a valid identification card or individuals under proper escort. All paper records containing personal information are maintained in secured file cabinets in restricted areas, access to which is limited to authorized personnel. Access to computerized files is password-protected and under the direct supervision of the system manager. The system manager has the capability of printing audit trails of access from the computer media, thereby permitting regular and ad hoc monitoring of computer usage. When it is determined that a user no longer needs access, the user account is disabled.

RETENTION AND DISPOSAL:

Records are retired and destroyed in accordance with published Department of State Records Disposition Schedules as approved by the National Archives and Records Administration (NARA). More specific information may be obtained by writing to the Director; Office of Information Programs and Services, A/GIS/IPS; SA-2, Department of State; 515 22nd Street NW; Washington, DC 20522-8100.

SYSTEM MANAGER(S) AND ADDRESS:

Deputy Director; Office of Foreign Missions, Department of State; 2201 C Street NW., Room 2236; Washington, DC 20520 (OFMInfo@state.gov).

NOTIFICATION PROCEDURE:

Individuals who have cause to believe that the Department of State may have records pertaining to him or her should write to the Director; Office of Information Programs and Services, A/GIS/IPS; SA-2, Department of State; 515 22nd Street NW; Washington, DC 20522-8100. The individual must specify that he/she wishes the records of the Office of Foreign Missions to be checked. At a minimum, the individual must include: name; date and place of birth; current mailing address and zip code; signature; a brief description of the circumstances that caused the creation of the record, which give the individual cause to believe that the Department of State has records pertaining to him or her.

RECORD ACCESS PROCEDURES:

Individuals who wish to gain access to or amend records pertaining to them should write to the Director; Office of Information Programs and Services (address above).

CONTESTING RECORD PROCEDURES:

Individuals who wish to contest records pertaining to them should write to the Director; Office of Information Programs and Services (address above).

RECORD SOURCE CATEGORIES:

These records contain information that is primarily obtained from the individual who is the subject of the records or from foreign missions and/or international organizations having information regarding the individual, as a result of, but not limited to:

1. Past or present employment; or

2. the individual being the member of a household of a foreign mission or international organization member.

SYSTEMS EXEMPTED FROM CERTAIN PROVISIONS OF THE ACT:

Pursuant to 5 U.S.C. 552a(k)(2), records in this system may be exempt from subsections 5 U.S.C. 552a(c)(3), (d)(1), (d)(2), (d)(3), (d)(4), (d)(5), (e)(1), (e)(4)(G), (e)(4)(H), (e)(4)(I), (f)(1), (f)(2), (f)(3), (f)(4), and (f)(5) of 5 U.S.C. 552a.

[FR Doc. 2015-31840 Filed 12-16-15; 8:45 am]

BILLING CODE 4710-43-P